ENVIRONMENTAL PROTECTION AGENCY

40 CFR Part 52

[EPA-R09-OAR-2011-0547; FRL-9480-1]

Revisions to the California State Implementation Plan, San Joaquin Valley Unified Air Pollution Control District (SJVUAPCD)

Correction

In rule document 2011-33660 appearing on pages 214-217 in the issue of Wednesday, January 4, 2012, make the following corrections:

(1) On page 214, in the second column, in the DATES section, in the second line, “February 3, 2011” should read “February 3, 2012”.

(2) On page 217, in the first column, in the last paragraph, in the fifth line, “March 7, 2011” should read “March 5, 2012”.

[FR Doc. C1-2011-33660 Filed 1-5-12; 8:45 am]

BILLING CODE 1505-01-D